NATIONAL SCIENCE FOUNDATION

Membership of National Science Foundation's Senior Executive Service Performance Review Board

AGENCY: National Science Foundation.

ACTION: Announcement of membership of the National Science Foundation's Senior Executive Service Performance Review Board.

SUMMARY: This announcement of the membership of the National Science Foundation's Senior Executive Service Performance Review Board is made in compliance with 5 U.S.C. 4314(c)(4).

ADDRESSES: Comments should be addressed to Interim Director, Division of Human Resource Management and Chief Human Capital Officer, National Science Foundation, Room 315, 4201 Wilson Boulevard, Arlington, VA 22230.

FOR FURTHER INFORMATION CONTACT: Dr. Judith S. Sunley at the above address or (703) 292-8180.

SUPPLEMENTARY INFORMATION: The membership of the National Science Foundation's Senior Executive Service Performance Review Board is as follows:

Cora B. Marrett, Acting Deputy Director, Chairperson;

Richard A. Behnke, Head, Upper Atmosphere Research Section;

Deborah F. Lockhart, Deputy Director, Division of Mathematical Sciences;

Martha A. Rubenstein, Director, Office of Budget, Finance and Award Management, and Chief Financial Officer;

Brian W. Stone, Deputy Director, Division of Antarctic Infrastructure and Logistics Division;

Judith S. Sunley, Interim Director, Division of Human Resource Management and Chief Human Capital Officer;

Mark L. Weiss, Director, Division of Behavioral and Cognitive Sciences.

Dated: October 18, 2010.
Judith S. Sunley,
Interim Director, Division of Human Resource Management and Chief Human Capital Officer.

[FR Doc. 2010-26763 Filed 10-22-10; 8:45 am]

BILLING CODE 7555-01-M